DEPARTMENT OF THE INTERIOR

Bureau of Land Management

[WY-030-2000-1060-JJ]

Notice of Intent To Remove Stray Wild Horses (Modification of Previous Notice)

SUMMARY: The Rawlins Field Office of the Bureau of Land Management published a Notice of Intent to remove stray wild horses in Vol. 64, No. 249, page 73605 of the Federal Register, on December 31, 1999. That notice also made the detailed technical and National Environmental Policy Act (NEPA) documentation that supported the action available to the public, upon request. Subsequently, it was determined that the referenced NEPA documentation, WY-030-EA0-038, was partially based on the contents of another NEPA document, WY-030-EA0-037, which was subject to public review and comment until February 12, 2000. In order to provide the public with ample opportunity to review and comment on WY-030-EA0-037 and to maintain an ordered sequence of events, the comment period for WY-030-EA0-037 was extended until close-of-business, February 18, 2000. Concurrent with that action, the site-specific Gather Plan, which was part of the documentation referenced in the December 31 notice, was modified as follows: On page 5 in the first sentence of the section titled DATE(s), the date February 15 is changed to February 22. All other dates remain as stated originally and are unaffected by this modification. All parties to whom WY-030-EA0-037 was mailed for review and comment or who requested it or WY-030-EA0-038, were mailed a letter on January 21, 2000, notifying them of these changes.

FOR FURTHER INFORMATION CONTACT: For further information please contact the Bureau of Land Management, Rawlins Field Office, 1300 North Third Street, P.O. Box 2407, Rawlins, WY 82301, (307) 328-4200.

Dated: January 25, 2000.
Kurt J. Kotter,
Field Manager.

[FR Doc. 00-2203 Filed 2-1-00; 8:45 am]

BILLING CODE 4310-22-P